NATIONAL SCIENCE FOUNDATION

The Federal Demonstration Partnership; Phase V Notice

AGENCY: National Science Foundation, National Institutes of Health, Office of Naval Research, Department of Agriculture, Air Force Office of Scientific Research, Army Research Office, Army Medical Research & Materiel Command, National Aeronautics & Space Administration, Environmental Protection Agency.

ACTION: Notice.

SUMMARY: This Notice announces a solicitation for large and small public and private colleges and universities (including predominantly undergraduate institutions and minority serving institutions), non-profit research and education organizations (e.g., science museums and research institutes), and hospitals to participate in Phase V of the Federal Demonstration Partnership (FDP). FDP is a unique forum of federal agencies and recipients committed to testing innovative approaches and streamlining processes and systems for federally supported research and education. It is anticipated that the Government University Industry Research Roundtable of the National Academies will continue to function as a neutral convener for the FDP, as it has since 1988. The full solicitation can be found at http://www.research.gov.

DATES: Applications must be submitted by Tuesday, April 1, 2008. A notification of intent to submit should be provided by Friday, March 14, 2008. Evaluation and selection of organizations will be completed on or about May 1, 2008. Phase V organization and execution of agreements will be completed on or about June 30, 2008 with an effective date of October 1, 2008. Phase V participants will be invited to attend the FDP meeting scheduled for May 15-16, 2008 at the National Academy of Science, Washington, DC at which transition planning will be discussed. Phase V concludes September 30, 2014.

FOR FURTHER INFORMATION CONTACT: Visit the FDP Web site http://www.thefdp.org or contact fdp@nas.edu.

Dated: January 28, 2008.
Suzanne H. Plimpton,
Reports Clearance Officer, National Science Foundation.

[FR Doc. 08-431 Filed 1-30-08; 8:45 am]

BILLING CODE 7555-01-M